DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: State Targeted Response to the Opioid Crisis (Opioid STR) Evaluation—NEW

The Substance Abuse and Mental Health Services Administration (SAMHSA) recently awarded 57 grants to states and territories to help address the national opioid crisis by increasing access to treatment, reducing unmet treatment needs, and reducing opioid overdose related deaths through the provision of prevention, treatment, and recovery activities for opioid use disorder (OUD).

SAMHSA's Center for Behavioral Health Statistics and Quality (CBHSQ), will be conducting a cross-site evaluation of the Opioid STR grant program. The proposed data collection is necessary to evaluate how the Opioid STR state/territory grantees plan and implement prevention, treatment and recovery services. Additionally, a subset of communities/programs will be selected to participate in supplemental evaluation activities designed to provide detailed information related to the implementation of services at the program/community level, as well as the impacts of the program on client outcomes.

SAMHSA has developed a set of interview protocols and survey measures that will collect information from all state/territory grantees (57), and subset (up to 20) of programs/communities that provide services and activities funded by the grant. In addition, SAMHSA's Performance Accountability and Reporting System (SPARS) will be used to collect individual-level data using CSAT's Government Performance and Results Act (GPRA) for Discretionary Grant Programs Client Outcome Measure (OMB No. 0930-0208) from individuals receiving services from participating communities/programs.

Specific data collected as part of the Opioid STR evaluation include the following:

State Survey: The State Survey will be administered to State Project Directors/Program Managers to collect information about the state/territory's current, planned, and implemented activities to address opioid misuse using Opioid STR funding. State Surveys will be administered three (3) times.

State Interview: The State Interview Protocol will be used to collect information from the State Project Director/Program Manager during phone interviews at two (2) time points. Interviews will collect information about the state's substance abuse treatment systems prior to STR funding, the types of activities states plan to implement with STR funding, challenges and successes when implementing these activities, and plans for sustaining the activities.

Community/Program Survey: The Community/Program Survey will be administered to Community/Program Directors or Program Managers to collect information about the community/program's readiness to implement activities that address opioid misuse, their actual implementation of activities to address opioid misuse, and initial outcomes of their implemented activities. Community/Program Survey will be administered three (3) times.

Community/Program Director/Manager Interview Protocol: The Community/Program Director/Manager Interview Protocol will be used to collect information from Community/Program Directors or Program Managers during in-person site visits to each participating community/program. Interviews will collect in-depth information about the community's/program's implementation of activities to address opioid misuse using Opioid STR funding, and factors facilitating and impeding the implementation of STR-funded activities. Community/Program Director/Manager Interviews will be conducted two (2) times.

Community/Program Data Manager Interview Protocol: The Community/Program Data Manager Interview Protocol will be used to collect information from Data Managers during in-person site visits to each participating community/program. Interviews will collect in-depth information about how the program used community/program-level data to inform the development and implementation of STR activities and how data is being used to monitor the activities. Community/Program Data Manager Interviews will be conducted two (2) times.

Community/Program Clinical Staff Interview Protocol: The Community/Program Clinical Staff Interview Protocol will be used to collect information from up to four (4) clinical staff members at each participating community/program site. Interviews will collect information on the factors that have facilitated and impeded past activities to address opioid misuse, and clinicians' experiences implementing STR-funded activities. Community/Program Clinical Staff Interviews will be conducted two (2) times.

CSAT GPRA Client Outcome Measure: The CSAT GPRA Client Outcome Measure will be used with each client served in the Communities/Programs to collect data about client's progress as a result of receiving services. This data will be collected at three (3) time intervals: intake to services, 6 month follow-up, and at discharge.

Estimates of Annualized Hour Burden for the Opioid STR Measures
SAMHSA program instruments | Number of respondents | Responses per respondent | Total responses | Hours per response | Total annual burden hours
State-Level Evaluation (All STR-funded state/territories)
State Survey—Baseline | 57 | 1 | 57 | 4 | 228
State Survey—Time 2 | 57 | 1 | 57 | 4 | 228
State Survey—Time 3 | 57 | 1 | 57 | 4 | 228
State Interview—Time 1 | 57 | 1 | 57 | 1.5 | 85.5
State Interview—Time 2 | 57 | 1 | 57 | 1.5 | 85.5
Community/Program-Level Evaluation (Up to 20 funded programs/communities)
Community/Program Director Interview—Baseline | 20 | 1 | 20 | 1.5 | 30
Community/Program Clinical Staff Interview—Baseline | 80 | 1 | 80 | 1.5 | 120
Community/Program Data Manager Interview—Baseline | 20 | 1 | 20 | 1.5 | 30
Community/Program Director Interview—Time 2 | 20 | 1 | 20 | 1.5 | 30
Community/Program Clinical Staff Interview—Time 2 | 80 | 1 | 80 | 1.5 | 120
Community/Program Data Manager Interview—Time 2 | 20 | 1 | 20 | 1.5 | 30
Community/Program Director Survey—Baseline | 20 | 1 | 20 | 3 | 60
Community/Program Director Survey—Time 2 | 20 | 1 | 20 | 3 | 60
Community/Program Director Survey—Time 3 | 20 | 1 | 20 | 3 | 60
Individual clients
Baseline/Intake Interview | 1,000 | 1 | 1,000 | .52 | 520
Follow-up Interview ¹ | 800 | 1 | 800 | .52 | 416
Discharge Interview ² | 520 | 1 | 520 | .52 | 270.4
Total | 2,905 |  | 2,905 |  | 2,601
Notes:
1. It is estimated that 80% of baseline clients will complete this interview.
2. It is estimated that 52% of baseline clients will complete this interview.

Written comments and recommendations concerning the proposed information collection should be sent by August 7, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-14083 Filed 7-5-17; 8:45 am]

BILLING CODE 4162-20-P